DEPARTMENT OF HOUSING AND URBAN DEVELOPMENT

[Docket No. FR 5889-N-03]

Implementation of the Tribal HUD-VA Supportive Housing Program; Technical Correction

AGENCY: Office of the Assistant Secretary for Public and Indian Housing, HUD.

ACTION: Notice, technical correction.

SUMMARY: On October 21, 2015, HUD published in the Federal Register a notice that set forth the policies and procedures for the administration of a supportive housing and rental demonstration called the Tribal HUD-VA Supportive Housing program (Tribal HUD-VASH). Today's Federal Register notice makes technical corrections to the October 21, 2015, notice to clarify the program's intent and to address various issues that have risen during the implementation of the program.

DATES: Effective Date: December 6, 2016.

FOR FURTHER INFORMATION CONTACT: Heidi J. Frechette, Deputy Assistant Secretary, Office of Native American Programs, Office of Public and Indian Housing, Department of Housing and Urban Development, 451 7th Street SW., Room 4126, Washington, DC, 20410, telephone number (202) 402-7914. (This is not a toll-free number.) Hearing- or speech-impaired individuals may access this number via TTY by calling the toll-free Federal Relay Service at 1-800-877-8339.

SUPPLEMENTARY INFORMATION:

I. Background

On October 21, 2015 (80 FR 63822), HUD published in the Federal Register a notice that set forth the policies and procedures for the administration of a supportive housing and rental demonstration called the Tribal HUD-VASH. As described in the October 21, 2015, notice, HUD made $4 million in grant funding available to Indian tribes and tribally designated housing entities (TDHEs) to fund this rental assistance and associated administrative fees. Under Tribal HUD-VASH, Indian tribes and TDHEs participating must partner with the Department of Veterans Affairs (VA) to provide healthcare assistance to eligible Native American veterans. On March, 2, 2016 at 81 FR 10880, HUD published a notice in the Federal Register that announced the availability of additional funding for Tribal HUD-VASH and the tribes/TDHEs selected for the program. In total, 26 tribes/TDHEs were awarded $5.9 million in funding.

The purpose of this notice is to make technical corrections to the October 21, 2015, Federal Register notice detailing the Implementation of the Tribal HUD-VA Supportive Housing Program to clarify the program's intent and to address issues that have risen during the implementation of the program.

II. Technical Corrections

A. Section II. Definitions

A review of this section has caused HUD to add a definition of “privately-owned housing.” HUD is adding this definition to clarify the difference between privately-owned housing and tribally-owned housing since it is possible for a housing unit owned by the tribe to be leased by a Tribal HUD-VASH Veteran participant. Accordingly, on page 63823 under section II, captioned “Definitions,” HUD corrects the October 21, 2015, notice by adding alphabetically the definition of “privately-owned housing to read as follows:

Privately-owned housing—Privately-owned housing is any unit not directly owned by the Tribal HUD-VASH grantee. Accordingly, in situations where the TDHE is the Tribal HUD-VASH grantee, but the unit is owned by another tribal organization (such as the tribe), the unit would be considered privately-owned for purposes of this program.

B. Section VI. Subsection B. (Native American Veteran Eligibility)

1. HUD's review of Section VI.B. of the October 21, 2015, notice revealed a lack of clarity in determining income eligibility for program participants. Accordingly, on page 63826 under section VI.B.4., HUD corrects the October 21, 2015, notice by replacing the second sentence of paragraph 4.b. to read as follows:

“To be eligible, a Veteran household's annual income must be no more than 80 percent of the greater of the median income for the Indian area, or the median income for the United States as prescribed by Section 4(15) of NAHASDA.”

2. Additionally, HUD is providing a new section under item 4.c. to provide tribes/TDHE's with information about the exclusion of certain Veteran's benefits from income calculations to read as follows. Accordingly, on page 63826 under section VI.B.4.c, HUD corrects the October 21, 2015, notice by adding new paragraph to read as follows:

“Annual income is used to determine program eligibility under NAHASDA. Per PIH Notice 2011-15, Veteran compensation for service-connected disability or death under title 38 U.S.C. chapter 11 and dependency and indemnity compensation for service-connected deaths under title 38 U.S.C. chapter 13 are excluded from income. Refer to NAHASDA Program Guidance 2013-05 for more information on calculating income.”

C. Section VI. Subsection H. (Rent)

HUD has determined it needs to revise section VI.H. to establish guidelines determining unit bedroom size for the program and clarify how to determine the amount of rental assistance when, the bedroom sizes of the available housing stock exceed the Veteran family's need for bedrooms. Accordingly, on page 63827 under section VI.H., HUD corrects the October 21, 2015, notice by redesignating paragraph H. to be H.1. and by adding paragraph H.2. to read as follows:

“2. Bedroom size must be determined based on the number of family members living in the household, not on the number of bedrooms in the unit to be rented. Guidelines for determining unit size are one bedroom for each two persons within the household, except:

a. Persons of the opposite sex (other than spouses, and children under age 5) are not required to share a bedroom;

b. Persons of different generations are not required to share a bedroom;

c. Live-in aides must be allocated a separate bedroom. No additional bedrooms will be provided for the live-in aide's family; and

d. Single person families must be allocated zero or one bedroom.

Therefore, in situations where the available housing has more bedrooms than necessary for the family size and composition, the rental assistance payment must be limited to the number of bedrooms based on the guidelines listed above. If a grantee chooses to “over house” a Veteran family by placing the family in a larger unit than the family requires under the above guidelines, the maximum amount of Tribal HUD-VASH funds that can be used to house the Veteran family is the rent for a unit sized in accordance with the guidelines, and in accordance with Section VI., subsection H of this notice. Any additional rental costs due to over housing cannot be funded with Tribal HUD-VASH or regular Indian Housing Block Grant (IHBG) funds, but can be funded by other resources. In addition, Tribes/TDHEs may want to consider shared housing arrangements in situations where appropriate-sized housing is limited, but where individual Veterans could have a separate bedroom and share common areas.”

D. Section VI. Subsection L (Affordability Periods and Binding Commitments)

HUD has determined that this subsection is too restrictive when project-based housing is being used to house eligible homeless Native American Veterans. As a result, HUD is removing this requirement and deleting Section VI.L of the October 21, 2015, Notice.

Dated: November 28, 2016.
Lourdes Castro Ramírez,
Principal Deputy Assistant Secretary for Public and Indian Housing.

[FR Doc. 2016-29211 Filed 12-5-16; 8:45 am]

BILLING CODE 4210-67-P